DEPARTMENT OF THE INTERIOR

Fish and Wildlife Service

Draft Conservation Agreement for the Yellow-Billed Loon (Gavia adamsii)

AGENCY: U.S. Fish and Wildlife Service, Interior.

ACTION: Notice of document availability for review and comment.

SUMMARY: We, the U.S. Fish and Wildlife Service, announce the availability of the Draft Conservation Agreement for the Yellow-billed Loon (Gavia adamsii) for public review and comment.

DATES: Comments on the draft conservation agreement must be received on or before April 13, 2006.

ADDRESSES: Copies of the conservation agreement are available for inspection, by appointment, during normal business hours at the following location: U.S. Fish and Wildlife Service, Fairbanks Fish and Wildlife Field Office, 101 12th Avenue, Fairbanks, AK 99701 (telephone: 907-456-0203). Requests for copies of the draft conservation agreement should be addressed to the Endangered Species Branch Chief, at the above Service address. An electronic copy of the draft conservation agreement is also available at http://www.r7.fws.gov/current.htm.

If you wish to comment, you may submit your comments and materials by any one of the following methods:

1. You may submit written comments and information by mail to: Yellow-billed Loon Draft Conservation Agreement Comments, U.S. Fish and Wildlife Service, 101 12th Avenue, Fairbanks, AK 99701.

2. You may hand-deliver written comments and information to our Fairbanks Fish and Wildlife Field Office, 101 12th Avenue, Fairbanks, AK 99701.

3. You may fax your comments to 907-456-0208.

4. You may send your comments by electronic mail (e-mail) to YBLoon@fws.gov. Please include “Attn: Yellow-billed Loon Draft Conservation Agreement” in the beginning of your message, and do not use special characters or any form of encryption. Electronic attachments in standard formats (such as .pdf or .doc) are acceptable, but please name the software necessary to open any attachments in formats other than those given above. Also, please include your name and return address in your e-mail message (anonymous comments will not be considered). If you do not receive a confirmation from the system that we have received your e-mail message, or in the event that our Internet connection is not functional, please submit your comments in writing using one of the alternate methods described above. All comments and materials received will be available for public inspection, by appointment, during normal business hours at our Fairbanks Fish and Wildlife Field Office at the above address.

FOR FURTHER INFORMATION CONTACT: Ted Swem, Endangered Species Branch Chief, at the above Service address.

SUPPLEMENTARY INFORMATION:

Background

A Conservation Agreement is an effective, proactive way to address conservation of species that have not yet been listed under the Endangered Species Act but that face identifiable risks. Early conservation actions preserve management options, minimize the cost of recovery, and reduce the potential for restrictive land use policies in the future. Addressing the needs of species before the regulatory restrictions associated with listed species come into play often allows greater management flexibility to stabilize or restore these species and their habitats. In addition, as threats are reduced and populations are increased or stabilized, priority for listing can be shifted to those species in greatest need of the Endangered Species Act's protective measures. Ideally, sufficient threats can be removed to eliminate the need for listing.

There are an estimated 16,000 yellow-billed loons worldwide. Approximately 3,300 breed in the freshwater treeless tundra of Alaska. They breed abundantly on the North Slope, and sparsely in western Alaska, primarily north of Unalakleet and the foothills of the Brooks Range. Yellow-billed loons nest exclusively in coastal and inland low-lying tundra from 62-74° N latitude, in association with permanent, fish-bearing lakes. Populations are thought to be limited primarily by breeding habitat, specifically nesting and brood-rearing lakes (North 1994). Lakes that support breeding loons have abundant fish populations; depths greater than 2 meters (m) (6.5 feet) and water under the ice during winter; large areas; connections to streams which may supply fish; highly convoluted, vegetated, and low-lying shorelines; and clear water and dependable water. Breeding lakes may be near but not connected to major rivers, possibly because fluctuating river water levels can flood nests or cause turbidity that compromises foraging success.

In northern Alaska, yellow-billed loons breed on lands within the National Petroleum Reserve-Alaska (NPR-A) and on State of Alaska lands between the Colville and the Canning Rivers. In western Alaska, yellow-billed loons are found breeding primarily along the coastal fringe of the Seward Peninsula on Selawik National Wildlife Refuge (NWR), administered by the U.S. Fish and Wildlife Service (USFWS); Cape Krusenstern National Monument and Bering Land Bridge National Preserve, administered by the National Park Service (NPS); and on scattered small parcels of Bureau of Land Management (BLM) and Alaska Native-owned lands. Small numbers of yellow-billed loons have also been found nesting on Alaska Native-owned lands on St. Lawrence Island.

The goal of this Agreement is to protect yellow-billed loons and their breeding, brood-rearing, and migrating habitats in Alaska, such that current or potential threats in these areas are avoided, eliminated or reduced to the degree that the species will not become threatened or endangered from these threats within the foreseeable future.

The parties entering into this conservation agreement are the Alaska Department of Fish and Game, the Alaska Department of Natural Resources, and the U.S. Department of the Interior (U.S. Fish and Wildlife Service; Bureau of Land Management; and National Park Service). This Agreement identifies agency commitments to implement specific actions to protect yellow-billed loons and their habitats from potential impacts of land uses and management activities, to inventory and monitor yellow-billed loon populations, to investigate and reduce the impact of subsistence activities (harvest and fisheries bycatch), and to conduct related biological research. We do not expect any concrete effects to the private sector from the conservation measures in the agreement. The term of the agreement is 10 years.

We will consider all information received during the public comment period on this conservation agreement. Substantive technical comments may result in changes to the conservation agreement. Substantive comments regarding conservation agreement implementation may not necessarily result in changes to the Agreement, but will be forwarded to the appropriate Federal agency or other entities so that they can take these comments into account during the course of implementing Agreement actions. Individual responses to comments will not be provided.

Public Comments Solicited

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety.

Authority

The authority for this action is section 4(f) of the Endangered Species Act, 16 U.S.C. 1533(f).

Dated: February 24, 2006.
Gary Edwards,
Acting Regional Director, Region 7, U.S. Fish and Wildlife Service.

[FR Doc. E6-3566 Filed 3-13-06; 8:45 am]

BILLING CODE 4310-55-P